ENVIRONMENTAL PROTECTION AGENCY

40 CFR Part 52

[CT058-7217b; A-1-FRL-6886-6]

Approval and Promulgation of Air Quality Implementation Plans; Connecticut; Changes to Various VOC Regulations

AGENCY: Environmental Protection Agency (EPA).

ACTION: Proposed rule.

SUMMARY: The EPA is proposing to approve a number of State Implementation Plan (SIP) revisions submitted by the State of Connecticut (CT). The revisions consist of changes to various volatile organic compound (VOC) regulations that are currently in the CT SIP. These changes include: revisions to the definition of VOC; revisions to the gasoline loading regulation; revisions to the metal cleaning regulation; revisions to the miscellaneous metal parts and products coating regulation; and revisions to CT's reasonably available control technology for VOC regulation. In addition, EPA is proposing to approve CT's negative declarations for the synthetic organic chemical manufacturing industry distillation and reactor vessel source categories for which EPA issued control technique guideline documents (CTGs).

In the Final Rules section of this Federal Register, EPA is approving: revisions to the definition of VOC; revisions to the gasoline loading regulation; revisions to the metal cleaning regulation; revisions to the miscellaneous metal parts and products coating regulation; and revisions to CT's reasonably available control technology for VOC regulation. EPA is processing these SIP revisions as direct final rules without prior proposal because the Agency views these as noncontroversial submittals and anticipates no adverse comments. A detailed rationale for the approval is set forth in the direct final rule. If no relevant adverse comments are received in response to this action, no further activity is contemplated. If EPA receives relevant adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

DATES: Written comments must be received on or before November 20, 2000.

ADDRESSES: Comments may be mailed to David Conroy, Unit Manager, Air Quality Planning , Office of Ecosystem Protection (mail code CAQ), U.S. Environmental Protection Agency, EPA-New England, One Congress Street, Suite 1100, Boston, MA 02114-2023. Copies of the State submittals and EPA's technical support document are available for public inspection during normal business hours, by appointment at the Office of Ecosytem Protection, U.S. Environmental Protection Agency, Region I, One Congress Street, 11th floor, Boston, MA 02114 and the Bureau of Air Management, Department of Environmental Protection, State Office Building, 79 Elm Street, Hartford, CT 06106-1630.

FOR FURTHER INFORMATION CONTACT: Anne E. Arnold, at 617-918-1047.

SUPPLEMENTARY INFORMATION: For additional information, see the direct final rule which is located in the Rules section of this Federal Register.

Dated: October 6, 2000.
Mindy S. Lubber,
Regional Administrator, EPA-New England.

[FR Doc. 00-26614 Filed 10-18-00; 8:45 am]

BILLING CODE 6560-50-P